DEPARTMENT OF DEFENSE

Department of the Air Force

Air Force A-76 Initiatives Cost Comparisons and Direct Conversions (As of September 30, 2000)

The Air Force is in the process of conducting the following A-76 initiatives. Cost comparisons are public-private competitions. Direct conversions are functions that may result in a conversion to contract without public competition. These initiatives were announced and in-progress as of September 30, 2000, include the installation and state where the cost comparison or direct conversion is being performed, the total authorizations under study, public announcement date and actual or anticipated solicitation date. The following initiatives are in various stages of completion.

COST COMPARISONS
Installation | State | Function(s) | Total authorization | Public announcement date | Solicitation issued or scheduled date
ANDERSEN | GUAM | COMMUNICATIONS OPERATIONS AND MAINTENANCE | 24 | 15-Sep-00 | 30-May-01
ANDREWS | MD | COMMUNICATION FUNCTIONS | 181 | 04-Oct-99 | 26-Sep-01
ANDREWS | MD | GROUNDS MAINTENANCE | 9 | 17-Dec-98 | 12-May-00
ANDREWS | MD | AIRCRAFT MAINTENANCE AND SUPPLY | 815 | 25-Jul-97 | 26-May-99
ANDREWS | MD | HEATING SYSTEMS | 22 | 17-Dec-98 | 18-Feb-00
AVON PARK | FL | RANGE OPERATIONS | 38 | 22-Dec-99 | 15-Sep-01
BARKSDALE | LA | PROTECTIVE COATING | 13 | 14-Dec-98 | 29-Jun-00
BEALE | CA | BASE OPERATING SUPPORT | 383 | 08-Sep-99 | 07-Mar-01
BOLLING | DC | SUPPLY AND TRANSPORTATION | 138 | 01-Dec-98 | 12-Sep-00
CARSWELL | TX | BASE OPERATING SUPPORT | 69 | 03-Feb-00 | 05-Jun-01
DAVIS MONTHAN | AZ | BASE SUPPLY | 35 | 04-Jan-00 | 30-Oct-00
EDWARDS | CA | TRANSIENT AIRCRAFT MAINTENANCE/AEROSPACE GROUND EQUIPMENT | 146 | 06-Nov-98 | 09-Jun-00
EDWARDS | CA | BASE OPERATING SUPPORT | 553 | 09-Dec-98 | 08-Nov-00
EGLIN | FL | CIVIL ENGINEERING | 200 | 03-Dec-96 | 21-Jul-98
EGLIN | FL | AIRCRAFT MAINTENANCE AND SUPPLY | 319 | 15-Sep-00 | 01-Aug-01
EGLIN | FL | ADMINISTRATIVE SUPPORT | 49 | 22-Sep-99 | 26-Sep-00
EIELSON | AK | COMMUNICATIONS OPERATIONS AND MAINTENANCE | 63 | 29-Oct-99 | 05-Jan-01
ELMENDORF | AK | BASE SUPPLY | 208 | 26-Mar-99 | 21-Apr-00
ELMENDORF | AK | COMMUNICATIONS OPERATIONS AND MAINTENANCE | 81 | 05-Jan-00 | 07-Nov-00
HANSCOM AFB | MA | CIVIL ENGINEERING | 201 | 09-Dec-98 | 25-Feb-00
HANSCOM AFB | MA | EDUCATION/TRAINING AND PERSONNEL | 17 | 25-Nov-98 | 20-Apr-00
HANSCOM AFB | MA | BASE SUPPLY | 70 | 10-Nov-98 | 01-May-00
HILL AFB | UT | BASE OPERATING SUPPORT | 576 | 30-Sep-98 | 25-Nov-00
HOLLOMAN AFB | NM | TEST TRACK | 125 | 18-Nov-99 | 20-Nov-00
HURLBURT COM FL | FL | HOUSING MANAGEMENT | 12 | 08-Jun-00 | 01-May-01
HURLBURT COM FL | FL | ADMINISTRATIVE SUPPORT | 33 | 28-Apr-99 | 09-Mar-01
HURLBURT COM FL | FL | COMMUNICATION FUNCTIONS | 50 | 31-Jul-98 | 15-Apr-01
HURLBURT COM FL | FL | ENVIRONMENTAL | 7 | 22-Jun-00 | 15-Mar-01
HURLBURT COM FL | FL | BASE SUPPLY | 33 | 15-Jul-98 | 17-Feb-00
KEESLER | MS | MULTIPLE SUPPORT FUNCTIONS | 741 | 21-Sep-99 | 19-Dec-00
KIRTLAND | NM | EDUCATION SERVICES | 12 | 26-Oct-98 | 20-Mar-00
LACKLAND | TX | MULTIPLE SUPPORT FUNCTIONS | 1440 | 26-Jan-99 | 09-Aug-99
LANGLEY | VA | GENERAL LIBRARY | 11 | 22-Dec-98 | 07-Jun-00
MAXWELL | AL | EDUCATION SERVICES | 35 | 24-Jul-00 | 29-Sep-00
MAXWELL | AL | MULTIPLE SUPPORT FUNCTIONS | 814 | 28-Apr-98 | 22-Mar-99
MCCHORD | WA | GROUNDS MAINTENANCE | 10 | 14-Jun-99 | 22-Sep-00
MULTIPLE INSTLNS |  | TRANSIENT AIRCRAFT MAINTENANCE | 24 | 07-Jul-99 | 01-Dec-00
RAMSTEIN | GERMY
SPANGDAHLEM | GERMY
MULTIPLE INSTLNS |  | TRANSIENT AIRCRAFT MAINTENANCE | 15 | 07-Jul-99 | 29-May-00
LAKENHEATH | UK
MILDENHALL | UK
MULTIPLE INSTLNS |  | EDUCATION SERVICES | 73 | 17-Aug-00 | 25-Jan-01
ANDERSEN | GUAM
EIELSON | AK
ELMENDORF | AK
HICKAM | HI
KADENA | JA
KUNSAN | KR
MISAWA | JA
OSAN | KR
YOKOTA | JA
MULTIPLE INSTLNS |  | COMMUNICATION FUNCTIONS | 141 | 11-Mar-99 | 14-Apr-00
GENERAL MITCHELL | WI
WESTOVER | MA
MINN-ST PAUL | MN
YOUNGSTOWN | OH
WILLOW GROVE | PA
GRISSOM | IN
PITTSBURG | PA
MARCH | CA
HOMESTEAD | FL
CARSWELL | TX
NEW ORLEANS | LA
MULTIPLE INSTLNS |  | COMMUNICATION FUNCTIONS | 208 | 03-Aug-99 | 01-Nov-00
LANGLEY | VA
HILL AFB | UT
MULTIPLE INSTLNS |  | MULTIPLE SUPPORT FUNCTIONS | 124 | 14-Jul-99 | 28-Jun-01
CROUGHTON | UK
FAIRFORD | UK
MOLESWORTH | UK
MULTIPLE INSTLNS |  | PERSONNEL SERVICES | 223 | 16-Jun-00 | 15-Mar-01
BARKSDALE | LA
CANNON | NM
DAVIS MONTHAN | AR
DYESS | TX
ELLSWORTH | SD
HOLLOMAN | NM
KEFLAVIK | ICELD
LAJES | AZORE
LANGLEY | VA
MINOT | ND
MOODY | GA
MOUNTAIN HOME | ID
NELLIS | NV
SEYMOUR JOHNSON | NC
SHAW | SC
WHITEMAN | MO
NEW BOSTON | NH | BASE OPERATING SUPPORT | 48 | 03-Dec-97 | 01-Oct-00
NEW ORLEANS NAS | LA | BASE OPERATING SUPPORT | 45 | 03-Feb-00 | 02-Jan-01
OFFUTT | NE | BASE OPERATING SUPPORT | 1581 | 30-Sep-98 | 16-Feb-01
PATRICK | FL | SUPPLY AND TRANSPORTATION | 43 | 14-May-98 | 25-Oct-00
PETERSON | CO | PERSONNEL SERVICES | 90 | 05-Jan-00 | 01-Dec-00
RANDOLPH | TX | MULTIPLE SUPPORT FUNCTIONS | 1224 | 14-Sep-00 | TBD
ROBINS | GA | BASE SUPPLY | 133 | 01-Apr-99 | 16-Oct-00
ROBINS | GA | EDUCATION SERVICES | 57 | 07-Jan-99 | 17-Aug-00
ROBINS | GA | ENVIRONMENTAL | 49 | 07-Jun-00 | 20-Apr-01
ROBINS | GA | ADMINISTRATIVE TELEPHONE SWITCHBOARD | 17 | 17-Mar-99 | 01-May-00
SCOTT | IL | COMMUNICATIONS OPERATIONS AND MAINTENANCE FUNCTIONS | 169 | 19-Mar-98 | 16-Aug-99
SCOTT | IL | PERSONNEL SERVICES | 236 | 25-Jun-99 | 19-Feb-01
SEMBACH | GERMY | COMMUNICATION FUNCTIONS | 48 | 18-Dec-98 | 30-Oct-00
SHEPPARD | TX | MULTIPLE SUPPORT FUNCTIONS | 493 | 21-Sep-99 | 29-Jun-00
TINKER | OK | BASE SUPPLY | 152 | 30-Nov-98 | 17-Nov-99
TINKER | OK | EDUCATION SERVICES | 65 | 16-Nov-98 | 17-Nov-99
TRAVIS | CA | VEHICLE OPERATIONS AND MAINTENANCE | 131 | 15-Jul-98 | 24-Aug-00
USAF ACADEMY | CO | CIVIL ENGINEERING | 497 | 01-Dec-98 | 24-Mar-00
USAF ACADEMY | CO | BASE OPERATING SUPPORT | 108 | 08-May-98 | 09-May-00
USAF ACADEMY | CO | FOOD SERVICES | 297 | 08-May-98 | 21-Apr-99
USAF ACADEMY | CO | COMMUNICATION FUNCTIONS | 114 | 20-May-99 | 20-Jul-00
WHITEMAN | MO | UTILITIES PLANT | 11 | 18-Aug-99 | 01-Jun-00
DIRECT CONVERSIONS
ANDERSEN | GUAM | AIR TRAFFIC CONTROL | 12 | 14-Sep-99 | 30-Jun-00
BOLLING | DC | EDUCATION/TRAINING AND PERSONNEL | 12 | 01-May-00 | 08-Jan-01
COLUMBUS | MS | SURVIVAL EQUIPMENT | 29 | 18-Apr-00 | 15-Apr-01
EDWARDS | CA | LIBRARY | 7 | 09-Dec-98 | 11-Nov-00
EIELSON | AK | SUPPLY IEE | 5 | 17-May-00 | 12-Aug-99
ELLSWORTH | SD | ENVIRONMENTAL | 7 | 05-Nov-98 | 14-Apr-00
F E WARREN | WY | BASE COMMUNICATIONS | 105 | 30-Oct-97 | 19-Jul-00
GRAND FORKS | ND | MUNITIONS MAINTENANCE | 5 | 17-May-99 | 13-Oct-00
HICKAM | HI | AIR MOBILITY OPERATIONS CONTROL CENTER (AMOCC) | 53 | 29-Oct-99 | 13-Jul-00
HICKAM | HI | FURNISHINGS MANAGEMENT | 11 | 27-Jun-00 | 01-Dec-00
HOLLOMAN AFB | NM | MILITARY FAMILY HOUSING MAINTENANCE | 66 | 12-May-97 | 14-Oct-00
KIRTLAND | NM | GENERAL LIBRARY | 6 | 12-Jan-99 | 01-Oct-00
KIRTLAND | NM | RECREATIONAL SUPPORT | 9 | 12-Jan-99 | 01-Oct-00
KIRTLAND | NM | FOOD SERVICES | 15 | 29-Oct-99 | 21-Sep-00
KIRTLAND | NM | ENVIRONMENTAL | 32 | 24-Nov-98 | 01-Oct-00
LANGLEY | VA | AIRCRAFT FLEET SERVICES | 11 | 29-Jun-99 | 25-Sep-00
LANGLEY | VA | COMMUNICATION FUNCTIONS | 8 | 23-Mar-99 | 01-Dec-00
LANGLEY | VA | COMMUNICATIONS ADMINISTRATION AND INFORMATION FUNCTION | 13 | 31-Jan-00 | 02-Nov-00
LANGLEY | VA | DATA PROCESSING EQUIPMENT OPERATIONS | 15 | 04-Nov-99 | 16-Nov-00
MALMSTROM | MT | BASE COMMUNICATIONS | 85 | 06-Oct-97 | 15-Aug-00
MCGUIRE | NJ | FURNISHINGS MANAGEMENT | 2 | 14-May-99 | 30-Oct-00
MCGUIRE | NJ | HEATING SYSTEMS | 6 | 04-May-99 | 15-Nov-00
MINOT | ND | GROUNDS MAINTENANCE | 9 | 18-May-99 | 23-Oct-00
MT HOME | ID | GROUNDS MAINTENANCE | 6 | 20-Jul-99 | 20-Jul-00
MULTIPLE INSTLNS |  | ADMINISTRATIVE SUPPORT | 67 | 08-Aug-00 | 25-Jan-01
ANDERSEN | GUAM
EIELSON | AK
ELMENDORF | AK
HICKAM | HI
KADENA | JA
KUNSAN | KR
MISAWA | JA
OSAN | KR
YOKOTA | JA
OFFUTT | NE | COMPUTER OPERATIONS | 76 | 17-Feb-99 | 21-Jul-00
RANDOLPH | TX | COURSEWARE DEVELOPMENT | 38 | 30-Sep-99 | 30-Jun-00
ROBINS | GA | PROTECTIVE COATING | 8 | 18-Jan-00 | 19-Jan-01
ROBINS | GA | GENERAL LIBRARY | 6 | 23-Nov-99 | 20-Nov-00
ROBINS | GA | AIRFIELD MANAGEMENT | 10 | 06-Jun-00 | 24-May-01
SCHRIEVER | CO | FOOD SERVICES | 18 | 02-Sep-99 | 01-Nov-00
SCOTT | IL | ADMINISTRATIVE SWITCHBOARD | 85 | 05-Aug-99 | 03-Nov-00
SHAW | SC | COMMUNICATION FUNCTIONS | 3 | 18-May-99 | 10-Oct-00
SHAW | SC | ENVIRONMENTAL | 2 | 22-Mar-00 | 10-Aug-00
TINKER | OK | SOFTWARE PROGRAMMING | 67 | 08-May-00 | 01-Dec-00
VANCE | OK | SURVIVAL EQUIPMENT | 22 | 04-Feb-00 | 21-Oct-99
VANDENBERG AFB | CA | MISSILE STORAGE & MAINTENANCE | 66 | 14-Apr-99 | 18-Dec-99

Janet A. Long,
Air Force Federal Register Liaison Officer.

[FR Doc. 00-29477 Filed 11-16-00; 8:45 am]

BILLING CODE 5001-05-U